DEPARTMENT OF THE INTERIOR

National Park Service

[NPS-WASO-NAGPRA-NPS0036186; PPWOCRADN0-PCU00RP14.R50000]

Notice of Intent To Repatriate Cultural Items: U.S. Department of the Interior, Fish and Wildlife Service, Dungeness National Wildlife Refuge, Sequim, WA

AGENCY: National Park Service, Interior.

ACTION: Notice.

SUMMARY: In accordance with the Native American Graves Protection and Repatriation Act (NAGPRA), the U.S. Department of the Interior, Fish and Wildlife Service, Dungeness National Wildlife Refuge (Dungeness NWR) intends to repatriate a certain cultural item that meets the definition of an unassociated funerary object and that has a cultural affiliation with the Indian Tribes or Native Hawaiian organizations in this notice. The cultural item was removed from Clallam County, WA.

DATES: Repatriation of the cultural item in this notice may occur on or after August 17, 2023.

ADDRESSES: Jennifer Brown-Scott, Project Leader, Washington Maritime National Wildlife Refuge Complex, 715 Holgerson Road, Sequim, WA 98382, telephone (360) 457-8451, email jennifer_brownscott@fws.gov.

SUPPLEMENTARY INFORMATION: This notice is published as part of the National Park Service's administrative responsibilities under NAGPRA. The determinations in this notice are the sole responsibility of Dungeness NWR. The National Park Service is not responsible for the determinations in this notice. Additional information on the determinations in this notice, including the results of consultation, can be found in the summary or related records held by Dungeness NWR.

Description

The one cultural item was removed from Clallam County, WA. The cultural item, a dugout canoe, is under control of the U.S. Fish and Wildlife Service and is currently in the custody of the Jamestown S'Klallam Tribe. This unassociated funerary object was removed from Dungeness Spit on Dungeness National Wildlife Refuge in June of 1980. In 1984, the canoe was loaned to the Museum and Arts Center in Sequim to be displayed outdoors, under a protective shelter. In 1993, the Museum and Arts Center notified the U.S. Fish and Wildlife Service that it was terminating the loan agreement. On September 3, 1993, the U.S. Fish and Wildlife Service contacted the Jamestown S'Klallam Tribe and offered to loan the canoe and the protective shelter to the Tribe, and on September 10, 1993, the Tribe accepted the offer and took custody of the canoe. The one unassociated funerary item is a dugout canoe.

Cultural Affiliation

The cultural item in this notice is connected to one or more identifiable earlier groups, tribes, peoples, or cultures. There is a relationship of shared group identity between the identifiable earlier groups, tribes, peoples, or cultures and one or more Indian Tribes or Native Hawaiian organizations. The following types of information were used to reasonably trace the relationship: anthropological, archeological, geographical, and historical.

Determinations

Pursuant to NAGPRA and its implementing regulations, and after consultation with the appropriate Indian Tribes and Native Hawaiian organizations, Dungeness NWR has determined that:

• The one cultural item described above is reasonably believed to have been placed with or near individual human remains at the time of death or later as part of the death rite or ceremony and are believed, by a preponderance of the evidence, to have been removed from a specific burial site of a Native American individual.

• There is a relationship of shared group identity that can be reasonably traced between the cultural item and the Jamestown S'Klallam Tribe.

Requests for Repatriation

Additional, written requests for repatriation of the cultural item in this notice must be sent to the Responsible Official identified in ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural item in this notice to a requestor may occur on or after August 17, 2023. If competing requests for repatriation are received, Dungeness NWR must determine the most appropriate requestor prior to repatriation. Requests for joint repatriation of the cultural items are considered a single request and not competing requests. Dungeness NWR is responsible for sending a copy of this notice to the Indian Tribe identified in this notice.

Authority: Native American Graves Protection and Repatriation Act, 25 U.S.C. 3003, and the implementing regulations, 43 CFR 10.8, 10.10, and 10.14.

Dated: July 6, 2023.
Melanie O'Brien,
Manager, National NAGPRA Program.

[FR Doc. 2023-15103 Filed 7-17-23; 8:45 am]

BILLING CODE 4312-52-P